DEPARTMENT OF HEALTH AND HUMAN SERVICES

Agency for Toxic Substances and Disease Registry

[30Day-19-18AJA]

Agency Forms Undergoing Paperwork Reduction Act Review

In accordance with the Paperwork Reduction Act of 1995, the Agency for Toxic Substances and Disease Registry (ATSDR) has submitted the information collection request titled Assessment of Environmental Health and Land Reuse Certification Training to the Office of Management and Budget (OMB) for review and approval. ATSDR previously published a “Proposed Data Collection Submitted for Public Comment and Recommendations” notice on June 27, 2018 to obtain comments from the public and affected agencies. ATSDR did not receive comments related to the previous notice. This notice serves to allow an additional 30 days for public and affected agency comments.

ATSDR will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Assessment of Environmental Health and Land Reuse Certification Training—New—Agency for Toxic Substances and Disease Registry (ATSDR) and the National Center for Environmental Health (NCEH/ATSDR), Centers for Disease Control and Prevention (CDC).

Background and Brief Description

The Agency for Toxic Substances and Disease Registry (ATSDR) is requesting a three-year Paperwork Reduction Act (PRA) Clearance for a new Information Collection Request (ICR) entitled “Assessment of Environmental Health and Land Reuse Certification Training.” The specific activities of the ICR request is to collect participant feedback on the environmental health land reuse certificate course content developed by ATSDR and its collaborator. This information collection is funded through a contract with the National Environmental Health Association (NEHA), number 200-2013-57475.

Due to the prevalence of potentially contaminated land reuse sites such as brownfields, ATSDR is partnering with NEHA to build capacity among health agency staff through the certificate. The certificate program/training modules focus on increasing skills in Land Reuse and Redevelopment through the integration of Epidemiology, Risk Assessment, Risk Communication, and Toxicology concepts and resources. This certificate training will be hosted on ATSDR's website as well as linked by NEHA's existing online Learning Management System, which hosts a variety of certificate and credentialing courses. In addition, CDC's Training and Communication Online (TCEO) (0920-0017; expiration 6/30/2019), a system that provides access to CDC educational activities for continuing education (CE), will register participants and provide continuing education credits for the certificate course.

The purpose of the information collection is to access the registration data and evaluate the impact of the certification program. The certification is geared to meet the following objectives:

• Increase participant awareness and knowledge of environmental health and land reuse;

• Increase skills and capacity of participants to engage in environmental health and land reuse work; and

• Assess participant feedback and assessment of their own increased awareness, skills, and knowledge in environmental health and land reuse.

ATSDR will request registration data from TCEO and use this data to conduct one time follow-up to assess the impact of participating in the certification, such as increased capacity of environmental health professionals to perform their work. Ultimately, ATSDR is interested in long-term benefits of the certification, such as state health partners engaging more frequently in land reuse and redevelopment projects.

Through this information collection, ATSDR would like to determine the utility and effectiveness of the certification course content. Subsequently, ATSDR will analyze the data provided by NEHA regarding participants' job titles (e.g. LHD staff, environmental consultant, or other), the pre- and post-testing built-in components of the certification course, and a one-time collection of feedback (e.g. within 6-11 months after participation) on use of the certification materials and resources to build their capacity and skills in environmental health and land reuse.

The respondents for the certification course will largely be environmental professionals; students of environmental science, public health, or planning; and local or state health agency professionals. ATSDR may perform descriptive analysis to characterize certification course participants (e.g. by job title) and to summarize their feedback on the course content and effectiveness. In summary, the feedback information will help ATSDR determine impacts of the certification course in building capacity and skills in environmental health and land reuse. Without this information, ATSDR will not be able to assess the effectiveness of the certification in terms of building participants' capacity in environmental health and land reuse activities. In addition, ATSDR can generalize feedback from course participants to create new materials that can support additional capacity-building for health agencies to increase their involvement in environmental health and land reuse activities.

This one time follow up information collection will occur through support of collaborators National Environmental Health Association (NEHA) as well as other partners (e.g. tribal entities) who will provide participant names and emails for users who have taken the training in order to conduct a one time follow up survey. ATSDR will collect feedback data about the certification course. The feedback data will center around participant's assessment of their own potentially increased skills in environmental health and land reuse as a result of the certification and use of subsequent certification components. Participation in this proposed information collection is completely voluntary. There is no cost to respondents other than their time. The total time burden is estimated to be 67 hours.

Estimated Annualized Burden Hours
Type of respondents | Form name | Number of respondents | Number of responses per respondent | Average burden per response (in hours)
Environmental health professionals and graduate students | Follow-up Survey | 200 | 1 | 20/60

Jeffrey M. Zirger,
Lead, Information Collection Review Office, Office of Scientific Integrity, Office of Science, Centers for Disease Control and Prevention.

[FR Doc. 2019-06302 Filed 4-1-19; 8:45 am]

BILLING CODE 4163-18-P